DEPARTMENT OF COMMERCE

International Trade Administration

[A-570-929]

Small Diameter Graphite Electrodes From the People's Republic of China: Final Results of Antidumping Duty Administrative Review; 2012-2013

AGENCY: Enforcement and Compliance, International Trade Administration, Department of Commerce.

SUMMARY: On March 24, 2014, the Department of Commerce (the Department) published the preliminary results of the administrative review of the antidumping duty order on small diameter graphite electrodes from the People's Republic of China (the PRC). The period of review (POR) is February 1, 2012, through January 31, 2013. For the final results, we continue to find that certain companies covered by this review made sales of subject merchandise at less than normal value, and that other companies are now part of the PRC-wide entity.

DATES: Effective Date: September 25, 2014.

FOR FURTHER INFORMATION CONTACT: Dmitry Vladimirov or Michael Romani, AD/CVD Operations, Office I, Enforcement and Compliance, International Trade Administration, U.S. Department of Commerce, 14th Street and Constitution Avenue NW., Washington, DC 20230; telephone: (202) 482-0665 or (202) 482-0198, respectively.

SUPPLEMENTARY INFORMATION:

Background

On March 24, 2014, the Department published the preliminary results of the administrative review of the antidumping duty order on small diameter graphite electrodes from the PRC.¹ We received case and rebuttal briefs with respect to the Preliminary Results.

¹ See Small Diameter Graphite Electrodes from the People's Republic of China: Preliminary Results of Antidumping Duty Administrative Review and Partial Rescission; 2012-2013, 79 FR 15944 (March 24, 2014) (Preliminary Results).

We conducted this administrative review in accordance with section 751 of the Tariff Act of 1930, as amended (the Act).

Scope of the Order

The merchandise covered by the order includes all small diameter graphite electrodes with a nominal or actual diameter of 400 millimeters (16 inches) or less and graphite pin joining systems for small diameter graphite electrodes. Small diameter graphite electrodes and graphite pin joining systems for small diameter graphite electrodes that are subject to the order are currently classified under the Harmonized Tariff Schedule of the United States (HTSUS) subheadings 8545.11.0010, 3801.10, and 8545.11.0020. The HTSUS numbers are provided for convenience and customs purposes. A full description of the scope of the order is contained in the Issues and Decision Memorandum.² The written description of the scope of the order is dispositive.

² See Memorandum to Ronald K. Lorentzen, Acting Assistant Secretary for Enforcement and Compliance, from Gary Taverman, Associate Deputy Assistant Secretary for Antidumping and Countervailing Duty Operations, entitled “Issues and Decision Memorandum for the Final Results of Antidumping Duty Administrative Review of Small Diameter Graphite Electrodes from the People's Republic of China” dated concurrently with and hereby adopted by this notice (Issues and Decision Memorandum).

Determination of No Shipments

UK Carbon and Graphite Co., Ltd. (UKCG) filed a timely “no shipment” certification stating that it had no exports, sales, or entries of subject merchandise during the POR.³ We subsequently confirmed with U.S. Customs and Border Protection (CBP) the “no shipment” claim made by UKCG.⁴ Based on the certification by UKCG and CBP's confirmation, we determine that UKCG did not have any reviewable entries of subject merchandise during the POR, and will issue appropriate instructions that are consistent with our “automatic assessment” clarification, for these final results.⁵

³ See UKCG's letter, dated April 4, 2013.

⁴ See CBP message 3163308, dated June 12, 2013.

⁵ See Non-Market Economy Antidumping Proceedings: Assessment of Antidumping Duties, 76 FR 65694 (October 24, 2011) (Assessment Practice Refinement); see also the “Assessment” section of this notice, below.

Analysis of Comments Received

All issues raised in the case briefs by parties to this administrative review are addressed in the Issues and Decision Memorandum. A list of the issues raised is attached to this notice as Appendix I. The Issues and Decision Memorandum is a public document and is on file electronically via Enforcement and Compliance's Antidumping and Countervailing Duty Centralized Electronic Service System (IA ACCESS). Access to IA ACCESS is available to registered users at http://iaaccess.trade.gov and is available to all parties in the Central Records Unit, room 7046 of the main Department of Commerce building. In addition, a complete version of the Issues and Decision Memorandum can be found at http://enforcement.trade.gov/frn/index.html. The signed and electronic versions of the Issues and Decision Memorandum are identical in content.

Separate Rate for Non-Selected Companies

In the Preliminary Results, we found that Xinghe County Muzi Carbon Co., Ltd. (Muzi Carbon) and Jilin Carbon Import and Export Company (Jilin Carbon) demonstrated their eligibility for separate-rate status.⁶ We have not received any information since then that would lead us to reconsider our preliminary finding. Therefore, we continue to determine that Muzi Carbon and Jilin Carbon are eligible for separate-rate status, and have assigned to each a dumping margin of 21.16 percent, based on the weighted-average dumping margin that we calculated for the Fangda Group ⁷ for these final results.⁸

⁶ See Preliminary Results, and accompanying Preliminary Decision Memorandum at 9-11.

⁷ The Fangda Group consists of Beijing Fangda Carbon Tech Co., Ltd., Chengdu Rongguang Carbon Co., Ltd., Fangda Carbon New Material Co., Ltd., Fushun Carbon Co., Ltd., and Hefei Carbon Co., Ltd. We refer to the Fangda Group as a single entity pursuant to 19 CFR 351.401(f)(1). See Small Diameter Graphite Electrodes From the People's Republic of China: Preliminary Determination of Sales at Less Than Fair Value, Postponement of Final Determination, and Affirmative Preliminary Determination of Critical Circumstances, in Part, 73 FR 49408, 49411-12 (August 21, 2008) (where we collapsed the following individual members of the Fangda Group: Beijing Fangda Carbon Tech Co., Ltd., Chengdu Rongguang Carbon Co., Ltd., Fangda Carbon New Material Co., Ltd., Fushun Carbon Co., Ltd., and Hefei Carbon Co., Ltd.), unchanged in Final Determination of Sales at Less Than Fair Value and Affirmative Determination of Critical Circumstances: Small Diameter Graphite Electrodes from the People's Republic of China, 74 FR 2049 (January 14, 2009).

⁸ See section titled “Separate Rate for Non-Selected Companies” in the Issues and Decision Memorandum for further discussion.

The PRC-Wide Entity

In the Preliminary Results, we determined that 12 companies ⁹ for which a review was requested did not demonstrate their eligibility for a separate rate and are properly considered part of the PRC-wide entity.¹⁰ We have not received any information since then that would lead us to reconsider our preliminary determination with respect to these 12 companies. Therefore, we continue to find that these 12 companies should be treated as part of the PRC-wide entity and subject to the PRC-wide entity rate. Further, although Fushun Jinly applied for separate rate status, we determined that we cannot rely on any of the information provided in Fushun Jinly's responses, including its section A response. Accordingly, we determined that Fushun Jinly does not qualify for a separate rate, is part of the PRC-wide entity, and is subject to the PRC-wide entity rate.

⁹ These companies are Fangda Lanzhou Carbon Joint Stock Company Co. Ltd., Jilin Carbon Graphite Material Co., Ltd., Lanzhou Carbon Co., Ltd., Lanzhou Carbon Import & Export Corp., Lanzhou Hailong New Material Co., Lanzhou Hailong Technology, Liaoning Fangda Group Industrial Co., Ltd., Sinosteel Anhui Co., Ltd., Sinosteel Corp., Sinosteel Jilin Carbon Plant, Sinosteel Jilin Carbon Imp. & Exp. Co., Ltd., and Sinosteel Sichuan Co., Ltd.

¹⁰ See Preliminary Results, and accompanying Preliminary Decision Memorandum at 12.

In the Preliminary Results, we stated our intent not to rescind the review for certain companies that remain a part of the PRC-wide entity, notwithstanding timely withdrawal of review requests for these companies, because the PRC-wide entity remains under review.¹¹ Since the Preliminary Results, we did not receive any information that would cause us to revisit our preliminary determination not to rescind the review with respect to these companies.¹²

¹¹ Id., and accompanying Preliminary Decision Memorandum at 12.

¹² See Appendix II for a complete list of these companies.

Consistent with our practice, we will issue appropriate instructions to CBP for any entries made by the companies that remain a part of the PRC-wide entity during the POR.

Changes Since the Preliminary Results

Based on our analysis of the comments received, we did not make any revisions to the margin calculations for the Fangda Group.

Final Results of the Review

We determine that the following percentage weighted-average dumping margins exist for the period February 1, 2012, through January 31, 2013:

Exporter | Margin (percent)
Beijing Fangda Carbon Tech Co., Ltd. | 21.16
Chengdu Rongguang Carbon Co., Ltd. | 21.16
Fangda Carbon New Material Co., Ltd. | 21.16
Fushun Carbon Co., Ltd. | 21.16
Hefei Carbon Co., Ltd. | 21.16
Xinghe County Muzi Carbon Co., Ltd. | 21.16
Jilin Carbon Import and Export Company | 21.16
PRC-wide entity † | 159.64
† The PRC-wide entity includes the companies listed in Appendix II.

Assessment

Pursuant to section 751(a)(2)(A) of the Act and 19 CFR 351.212(b), the Department shall determine, and CBP shall assess, antidumping duties on all appropriate entries covered by this review. For customers or importers of the Fangda Group, we calculated customer/importer-specific antidumping duty assessment rates based on customer-/importer-specific ad valorem rates in accordance with 19 CFR 351.212(b)(1).

For the non-selected respondents that received a separate rate, Muzi Carbon and Jilin Carbon, we will instruct CBP to apply an antidumping duty assessment rate of 21.16 percent to all entries of subject merchandise that entered the United States during the POR.

For all other companies, we will instruct CBP to apply an antidumping duty assessment rate of the PRC-wide entity, 159.64 percent,¹³ to all entries of subject merchandise exported by these companies.

¹³ Id., and accompanying Preliminary Decision Memorandum at 13.

Pursuant to a refinement to the Department's assessment practice in NME cases,¹⁴ for entries that were not reported in the U.S. sales databases submitted by companies individually examined during this review, the Department will instruct CBP to liquidate such entries at the PRC-wide rate. In addition, for companies where the Department determined that the exporter under review had no shipments of the subject merchandise, any suspended entries that entered under that exporter's case number (i.e., at that exporter's rate) will be liquidated at the PRC-wide rate.

¹⁴ For a full discussion of this practice, see Assessment Practice Refinement.

We intend to issue assessment instructions to CBP 15 days after the date of publication of the final results of review.

Cash Deposit Requirements

The following cash deposit requirements will be effective upon publication of these final results of review for all shipments of the subject merchandise entered, or withdrawn from warehouse, for consumption on or after the publication date as provided by section 751(a)(2)(C) of the Act: (1) For subject merchandise exported by the companies listed above that have separate rates, the cash deposit rate will be the rate established in these final results of review for each exporter as listed above; (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These deposit requirements shall remain in effect until further notice.

Notifications

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Disclosure

We intend to disclose the calculations performed within five days of the date of publication of this notice to parties in this proceeding, in accordance with 19 CFR 351.224(b).

These final results of review are issued and published in accordance with sections 751(a)(1) and 777(i) of the Act.

Dated: September 19, 2014.
Ronald K. Lorentzen,
Acting Assistant Secretary for Enforcement and Compliance.

Appendix I

List of Topics Discussed in the Issues and Decision Memorandum

1. Summary

2. Background

3. Scope of the Order

4. Separate Rate for Non-Selected Companies

5. Discussion of the Issues

Comment 1: Application of Total Adverse Facts Available

Comment 2: Surrogate Value for Pitch Oil

Comment 3: Surrogate Value for Steel Strap

Comment 4: Surrogate Value for Plastic Foam

Comment 5: Surrogate Value for Natural Gas

Comment 6: Application of Partial Facts Available for Tolling Data

Comment 7: Treatment of Irrevocable Value-Added Taxes

Comment 8: Surrogate Value for Reintroduced Forming Scrap By-Product

6. Recommendation

Appendix II

Firms for which we are not rescinding the review.

1. 5-Continent Imp. & Exp. Co., Ltd.

2. Acclcarbon Co., Ltd.

3. Allied Carbon (China) Co., Limited

4. Anssen Metallurgy Group Co., Ltd.

5. AMGL

6. Apex Maritime (Dalian) Co., Ltd.

7. Asahi Fine Carbon (Dalian) Co., Ltd.

8. Beijing Kang Jie Kong Cargo Agent Expeditors (Tianjin Branch)

9. Beijing Xinchengze Inc.

10. Beijing Xincheng Sci-Tech. Development Inc.

11. Carbon International

12. Chang Cheng Chang Electrode Co., Ltd.

13. Chengdelh Carbonaceous Elements Factory

14. Chengdu Jia Tang Corp.

15. China Industrial Mineral & Metals Group

16. China Shaanxi Richbond Imp. & Exp. Industrial Corp. Ltd.

17. China Xingyong Carbon Co., Ltd.

18. CIMM Group Co., Ltd.

19. Dalian Carbon & Graphite Corporation

20. Dalian Hongrui Carbon Co., Ltd.

21. Dalian Honest International Trade Co., Ltd.

22. Dalian Horton International Trading Co., Ltd.

23. Dalian LST Metallurgy Co., Ltd.

24. Dalian Oracle Carbon Co., Ltd.

25. Dalian Shuangji Co., Ltd.

26. Datong Carbon

27. Datong Carbon Plant

28. Datong Xincheng Carbon Co., Ltd.

29. Dechang Shida Carbon Co., Ltd.

30. De Well Container Shipping Corp.

31. Dewell Group

32. Dignity Success Investment Trading Co., Ltd.

33. Double Dragon Metals and Mineral Tools Co., Ltd.

34. Foset Co., Ltd.

35. Fushun Orient Carbon Co., Ltd.

36. Grameter Shipping Co., Ltd. (Qingdao Branch)

37. Guangdong Highsun Yongye (Group) Co., Ltd.

38. Guanghan Shida Carbon Co., Ltd.

39. Haimen Shuguang Carbon Industry Co., Ltd.

40. Handan Hanbo Material Co., Ltd.

41. Hanhong Precision Machinery Co., Ltd.

42. Hebei Long Great Wall Electrode Co., Ltd.

43. Heilongjiang Xinyuan Metacarbon Company Ltd.

44. Henan Sanli Carbon Products Co., Ltd.

45. Hopes (Beijing) International Co., Ltd.

46. Huanan Carbon Factory

47. Hunan Mec Machinery and Electronics Imp. & Exp. Corp.

48. Hunan Yinguang Carbon Factory Co., Ltd.

49. Inner Mongolia QingShan Special Graphite and Carbon Co., Ltd.

50. Inner Mongolia Xinghe County Hongyuan Electrical Carbon Factory

51. Jiang Long Carbon

52. Jiangsu Yafei Carbon Co., Ltd.

53. Jichun International Trade Co., Ltd. of Jilin Province

54. Jiexiu Juyuan Carbon Co., Ltd.

55. Jiexiu Ju-Yuan & Coaly Co., Ltd.

56. Jilin Songjiang Carbon Co. Ltd.

57. Jinneng Group Co., Ltd.

58. Jinyu Thermo-Electric Material Co., Ltd.

59. JL Group

60. Kaifeng Carbon Company Ltd.

61. KASY Logistics (Tianjin) Co., Ltd.

62. Kimwan New Carbon Technology and Development Co., Ltd.

63. Kingstone Industrial Group Ltd.

64. L & T Group Co., Ltd.

65. Laishui Long Great Wall Electrode Co. Ltd.

66. Lanzhou Ruixin Industrial Material Co., Ltd.

67. LH Carbon Factory of Chengde

68. Lianxing Carbon Qinghai Co., Ltd.

69. Lianxing Carbon Science Institute

70. Lianxing Carbon (Shandong) Co., Ltd.

71. Lianyungang Jinli Carbon Co., Ltd.

72. Lianyungang Jianglida Mineral Co., Ltd.

73. Liaoyang Carbon Co. Ltd.

74. Linyi County Lubei Carbon Co., Ltd.

75. Maoming Yongye (Group ) Co., Ltd.

76. MBI Beijing International Trade Co., Ltd.

77. Nantong Dongjin New Energy Co., Ltd.

78. Oracle Carbon Co., Ltd.

79. Orient (Dalian) Carbon Resources Developing Co., Ltd.

80. Orient Star Transport International, Ltd.

81. Peixian Longxiang Foreign Trade Co. Ltd.

82. Pingdingshan Coal Group

83. Pudong Trans USA, Inc. (Dalian Office)

84. Qingdao Grand Graphite Products Co., Ltd.

85. Quingdao Haosheng Metals & Minerals Imp. & Exp. Co., Ltd.

86. Qingdao Liyikun Carbon Development Co., Ltd.

87. Qingdao Likun Graphite Co., Ltd.

88. Qingdao Ruizhen Carbon Co., Ltd.

89. Ray Group Ltd.

90. Rex International Forwarding Co., Ltd.

91. Rt Carbon Co., Ltd.

92. Ruitong Carbon Co., Ltd.

93. Sea Trade International, Inc.

94. Seamaster Global Forwarding (China)

95. Shandong Basan Carbon Plant

96. Shandong Zibo Continent Carbon Factory

97. Shanghai Carbon International Trade Co., Ltd.

98. Shanghai P.W. International Ltd.

99. Shanghai Shen-Tech Graphite Material Co., Ltd.

100. Shanghai Topstate International Trading Co., Ltd.

101. Shanxi Datong Energy Development Co., Ltd.

102. Shanxi Foset Carbon Co. Ltd.

103. Shanxi Jiexiu Import and Export Co., Ltd.

104. Shanxi Jinneng Group Co., Ltd.

105. Shanxi Yunheng Graphite Electrode Co., Ltd.

106. Shida Carbon Group

107. Shijaizhuang Carbon Co., Ltd.

108. Shijiazhuang Huanan Carbon Factory

109. Sichuan 5-Continent Imp & Exp Co., Ltd.

110. Sichuan Dechang Shida Carbon Co., Ltd.

111. Sichuan Guanghan Shida Carbon Co., Ltd.

112. Sichuan Shida Carbon Co., Ltd.

113. Sichuan Shida Trading Co., Ltd.

114. Sichuan GMT International Inc.

115. Sinicway International Logistics Ltd.

116. SK Carbon

117. SMMC Group Co., Ltd.

118. Sure Mega (Hong Kong) Ltd.

119. Tangshan Kimwan Special Carbon & Graphite Co., Ltd.

120. Tengchong Carbon Co., Ltd.

121. T.H.I. Group (Shanghai), Ltd.

122. T.H.I. Global Holdings Corp.

123. Tianjin (Teda) Iron & Steel Trade Co., Ltd.

124. Tianjin Kimwan Carbon Technology and Development Co., Ltd.

125. Tianjin Yue Yang Industrial & Trading Co., Ltd.

126. Tielong (Chengdu) Carbon Co., Ltd.

127. United Carbon Ltd.

128. United Trade Resources, Inc.

129. Weifang Lianxing Carbon Co., Ltd.

130. World Trade Metals & Minerals Co., Ltd.

131. XC Carbon Group

132. Xinghe Xingyong Carbon Co., Ltd.

133. Xinyuan Carbon Co., Ltd.

134. Xuanhua Hongli Refractory and Mineral Company

135. Xuchang Minmetals & Industry Co., Ltd.

136. Xuzhou Carbon Co., Ltd.

137. Xuzhou Electrode Factory

138. Xuzhou Lianglong Carbon Manufacture Co., Ltd.

139. Yangzhou Qionghua Carbon Trading Ltd.

140. Yixing Huaxin Imp & Exp Co. Ltd.

141. Youth Industry Co., Ltd.

142. Zhengzhou Jinyu Thermo -Electric Material Co., Ltd.

143. Zibo Continent Carbon Factory

144. Zibo DuoCheng Trading Co., Ltd.

145. Zibo Lianxing Carbon Co., Ltd.

146. Zibo Wuzhou Tanshun Carbon Co., Ltd.

Companies that are now part of the PRC entity because they did not demonstrate in this review that they are entitled to a separate rate.

1. Fushun Jinly Petrochemical Carbon Co., Ltd.

2. Fangda Lanzhou Carbon Joint Stock Company Co. Ltd.

3. Jilin Carbon Graphite Material Co., Ltd.

4. Lanzhou Carbon Co., Ltd.

5. Lanzhou Carbon Import & Export Corp.

6. Lanzhou Hailong New Material Co.

7. Lanzhou Hailong Technology

8. Liaoning Fangda Group Industrial Co., Ltd.

9. Sinosteel Anhui Co., Ltd.

10. Sinosteel Corp.

11. Sinosteel Jilin Carbon Plant

12. Sinosteel Jilin Carbon Imp. & Exp. Co., Ltd.

13. Sinosteel Sichuan Co., Ltd.

[FR Doc. 2014-22870 Filed 9-24-14; 8:45 am]

BILLING CODE 3510-DS-P